DEPARTMENT OF JUSTICE

Antitrust Division

Notice Pursuant to the National Cooperative Research and Production Act of 1993—National Center for Manufacturing Sciences, Inc.

Notice is hereby given that, on November 22, 2011, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, ANSYS, Inc., Lebanon, NH; Emerson Process Management LLP, Glen Allen, VA; Honeywell Process Solutions Division of Honeywell International, Phoenix, AZ; New Mexico Computing Applications Center (NMCAC), Albuquerque, NM; Osterhout Design Group, San Francisco, CA; Pacific Northwest Defense Coalition (PNDC), Portland, OR; and University of California (UCLA), Los Angeles, CA, have been added as parties to this venture.

Also, Aerowing, Inc., Las Vegas, NV; Centerline (Windsor) Limited, Windsor, Ontario, CANADA; Geotest-Marvin Test Systems, Inc., Irvine, CA; Milspray Military Technologies, Lakewood, NJ; and Seica, Inc., Salem, NH, have withdrawn as parties to this venture.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursuant to Section 6(b) of the Act on March 17, 1987 (52 FR 8375).

The last notification was filed with the Department on July 27, 2011. A notice was published in the Federal Register pursuant to Section 6(b) of the Act on September 23, 2011 (76 FR 59162).

Patricia A. Brink,
Director of Civil Enforcement, Antitrust Division.

[FR Doc. 2011-32693 Filed 12-20-11; 8:45 am]

BILLING CODE P